DEPARTMENT OF LABOR

Employment and Training Administration

[TA-W-52,611]

Guardian Industries Corporation, Lewistown, PA; Notice of Termination of Investigation

Pursuant to section 221 of the Trade Act of 1974, as amended, an investigation was initiated on August 19, 2003, in response to a petition filed by a company official on behalf of workers at Guardian Industries Corporation, Lewistown, Pennsylvania.

The petitioner has requested that the petition be withdrawn. Consequently, the investigation has been terminated.

Signed at Washington, DC this 25th day of August 2003.
Elliott S. Kushner,
Certifying Officer, Division of Trade Adjustment Assistance.

[FR Doc. 03-24711 Filed 9-29-03; 8:45 am]

BILLING CODE 4510-30-P